DEPARTMENT OF HOMELAND SECURITY

Coast Guard

[Docket No. USCG-2021-0406]

Guidance on Voluntary Compliance With Training Requirements for Personnel Serving on U.S.-Flagged Passenger Ships That Carry More Than 12 Passengers on International Voyages.

AGENCY: Coast Guard, Homeland Security (DHS).

ACTION: Notice of policy.

SUMMARY: The Coast Guard announces the availability of CG-MMC Policy Letter 02-21, titled “Guidance on Voluntary Compliance with Training Requirements for Personnel Serving on U.S.-flagged Passenger Ships that Carry More than 12 Passengers on International Voyages.” This policy provides guidance to passenger vessel owners and operators on voluntary compliance with the 2016 amendments to the International Convention on Standards of Training, Certification and Watchkeeping for Seafarers, 1978, as amended (STCW Convention) and the Seafarers' Training, Certification and Watchkeeping Code (STCW Code). Vessels may be subject to detentions in foreign ports if personnel have not received appropriate training in accordance with the STCW Convention and the STCW Code.

DATES: CG-MMC Policy Letter 02-21 was issued August 05, 2021.

ADDRESSES: Policy Letter 02-21 is available in docket number USCG-2021-0406 on http://www.regulations.gov.

FOR FURTHER INFORMATION CONTACT: For information about this policy, contact Megan Johns Henry, U.S. Coast Guard Office of Merchant Mariner Credentialing Maritime Personnel Qualifications Division (CG-MMC-1); telephone (202) 372-1255, email Megan.C.Johns@uscg.mil.

SUPPLEMENTARY INFORMATION: The International Maritime Organization (IMO) establishes the minimum international standards of competence including training requirements for mariners and maritime personnel through the International Convention on Standards of Training, Certification and Watchkeeping for Seafarers, 1978, as amended (STCW Convention) and the Seafarers' Training, Certification and Watchkeeping Code (STCW Code).

In 2016, the IMO adopted amendments to the STCW Convention and the STCW Code expanding the existing training requirements for personnel on passenger vessels. These amendments entered into force on July 1, 2018. These amendments have not been codified into national regulations at this time. However, because the United States is signatory to the STCW Convention, vessel owners and operators should be aware that their vessels are subject to foreign port state control actions, including detention, if mariners are not compliant with the STCW Convention and the STCW Code.

The Coast Guard has issued CG-MMC Policy Letter 02-21 to provide guidance to passenger vessel owners and operators on voluntary compliance with the 2016 amendments to the STCW Convention and the STCW Code. The Coast Guard will not issue endorsements related to the training of personnel on passenger vessels.

CG-MMC Policy Letter 02-21 is not a substitute for applicable legal requirements, nor is it itself a rule. The Coast Guard does not currently require any mariner to meet the training requirements in CG-MMC Policy Letter 02-21, paragraphs 4. a. (i) and (ii), in other words, it is possible to comply with U.S. domestic legal obligations without undertaking the specific trainings. Before creating any such requirement, the Coast Guard would undertake a separate rulemaking.

We issue this notice of availability in accordance with 5 U.S.C. 552(a) and under the authority of 46 U.S.C. 7101 and 7313. If you have questions about the policy letter, or believe that changes are necessary, please contact the person in the FOR FURTHER INFORMATION CONTACT section of this notice.

Dated: August 6, 2021.
Jeffrey G. Lantz,
Director of Commercial Regulations and Standards.

[FR Doc. 2021-17139 Filed 8-11-21; 8:45 am]

BILLING CODE 9110-04-P